NATIONAL AERONAUTICS AND SPACE ADMINISTRATION

[Notice (10-019)]

NASA Advisory Council; Meeting

AGENCY: National Aeronautics and Space Administration.

ACTION: Notice of Meeting.

SUMMARY: In accordance with the Federal Advisory Committee Act, Public Law 92-463, as amended, the National Aeronautics and Space Administration announces a meeting of the NASA Advisory Council.

DATES: Thursday, February 18, 2010, 9 a.m.-5 p.m. EST; Friday, February 19, 2010, 9 a.m.-1 p.m., EST.

ADDRESSES: NASA Headquarters, 300 E Street, SW., Washington, DC 20456, James E. Webb Auditorium.

FOR FURTHER INFORMATION CONTACT: Ms. Marla King, NAC Administrative Officer, National Aeronautics and Space Administration Headquarters, Washington, DC 20546, 202-358-1148.

SUPPLEMENTARY INFORMATION: The agenda for the meeting includes the following topics:

—NASA FY 2011 President's Budget Request.

—Reports from the Council Committees.

The meeting will be open to the public up to the seating capacity of the room. It is imperative that the meeting be held on this date to accommodate the scheduling priorities of the key participants.

Dated: January 29, 2010.
P. Diane Rausch,
Advisory Committee Management Officer, National Aeronautics and Space Administration.

[FR Doc. 2010-2276 Filed 2-2-10; 8:45 am]

BILLING CODE P